DEPARTMENT OF LABOR

Office of the Secretary

Submission for OMB Review: Comment Request

December 20, 2005.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Mine Safety and Health Administration (MSHA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration.

Type of Review: Extension of currently approved collection.

Title: Independent Contractor Registration and Identification.

OMB Number: 1219-0040.

Frequency: On occasion.

Type of Response: Recordkeeping and Reporting.

Affected Public: Business or other for-profit.

Estimated Number of Respondents: 17,395.

Estimated Annual Responses: 100,665.

Estimated Average Response Time: 8 minutes for a mine operator to maintain contractor information and 4 to 8 minutes to supply information for obtaining a contractor identification number.

Estimated Annual Burden Hours: 13,396.

Total Annualized Capital/Startup Costs: $0.

Total Annual Costs (operating/maintaining systems or purchasing services): $183,742.

Description: Independent contractors performing services or construction at mines are subject to the Federal Mine Safety and Health Act of 1977. Title 30 CFR 45.4(b) requires mine operators to maintain a written summary of information concerning each independent contractor present on the mine site. The information includes the trade name, business address, and telephone number; a brief description and the location on the mine of the work to be performed; MSHA identification number, if any; and the contractor's business address of record. This information is required to be provided for inspection and enforcement purposes by the mine operator to any MSHA inspector upon request.

Title 30 CFR 45.3 provides that independent contractors may voluntarily obtain a permanent MSHA identification number by submitting to MSHA their trade name and business address, a telephone number, an estimate of the annual hours worked by the contractor on mine property for the previous calendar year, and the address of record for service of documents upon the contractor. Independent contractors performing services or construction at mines are subject to the Federal Mine Safety and Health Act of 1977 and are responsible for violations of the Mine Act committed by them or their employees.

Although Independent Contractors are not required to apply for the identification number, they will be assigned one by MSHA the first time they are cited for a violation of the Mine Act. MSHA uses the information to issue a permanent MSHA identification number to the independent contractor.

Ira L. Mills,
Departmental Clearance Officer.

[FR Doc. E5-7962 Filed 12-27-05; 8:45 am]

BILLING CODE 4510-43-P